DEPARTMENT OF THE INTERIOR

National Park Service

[2253-665]

Notice of Inventory Completion: California Department of Parks and Recreation, Sacramento, CA

AGENCY: National Park Service, Interior.

ACTION: Notice.

SUMMARY: The California Department of Parks and Recreation has completed an inventory of human remains and associated funerary objects, in consultation with the appropriate Indian tribes, and has determined that there is a cultural affiliation between the human remains and associated funerary objects and present-day Indian tribes. Representatives of any Indian tribe that believes itself to be culturally affiliated with the human remains and associated funerary objects may contact the California Department of Parks and Recreation. Repatriation of the human remains and associated funerary objects to the Indian tribes stated below may occur if no additional claimants come forward.

DATES: Representatives of any Indian tribe that believes it has a cultural affiliation with the human remains and associated funerary objects should contact the California Department of Parks and Recreation at the address below by April 16, 2012.

ADDRESSES: Rebecca Carruthers, NAGPRA Coordinator, California Department of Parks and Recreation, 1416 9th Street, Room 902, Sacramento, CA 95814, telephone (916) 653-8893.

SUPPLEMENTARY INFORMATION: Notice is hereby given in accordance with the Native American Graves Protection and Repatriation Act (NAGPRA), 25 U.S.C. 3003, of the completion of an inventory of human remains and associated funerary objects in the possession of the California Department of Parks and Recreation. The human remains and associated funerary objects were removed from the Cole Creek site (CA-LAK-425), Lake County, CA.

This notice is published as part of the National Park Service's administrative responsibilities under NAGPRA, 25 U.S.C. 3003(d)(3). The determinations in this notice are the sole responsibility of the museum, institution or Federal agency that has control of the Native American human remains and associated funerary objects. The National Park Service is not responsible for the determinations in this notice.

Consultation

A detailed assessment of the human remains was made by the California Department of Parks and Recreation professional staff in consultation with representatives of the Big Valley Band of Pomo Indians of the Big Valley Rancheria, California; Elem Indian Colony of Pomo Indians of the Sulphur Bank Rancheria, California; Lower Lake Rancheria, California; Middletown Rancheria of Pomo Indians of California; and the Scotts Valley Band of Pomo Indians of California.

History and Description of the Remains

In 1975, human remains representing, at minimum, one individual were removed from the Cole Creek site (CA-LAK-425) in Lake County, CA, during salvage excavations conducted by Ron King and Dr. David A. Fredrickson when road construction exposed human remains within Clear Lake State Park. No known individuals were identified. The 10 associated funerary objects are 4 flakes, 3 utilized flakes, 1 blade, 1 core and 1 lot of food remains.

The age of this burial is dated to the late prehistoric period. The site itself has an early component that may date to the Mendocino Aspect or Borax Lake Pattern (circa B.C. 2000-500). Archeology in the Napa Valley shows occupation from about 2,000 or at most 4,000 years ago. It has been suggested that the Wappo language separated from other Yukian languages about B.C. 1000, suggesting that the Wappo may have been the first settlers of the area after the people of the Borax Lake Pattern. This site is within the historically documented geographic territory of the Wappo. The associated funerary objects are consistent with occupation of the site by the Wappo. Based on linguistic evidence and historical geographical association, officials of the California Department of Parks and Recreation have determined that there is a relationship of shared group identity that can be reasonably traced between these Native American human remains and associated funerary objects and the present-day Federally recognized Pomo Indian Tribes.

Determinations Made by the California Department of Parks and Recreation

Officials of the California Department of Parks and Recreation have determined that:

• Pursuant to 25 U.S.C. 3001(9), the human remains described in this notice represent the physical remains of one individual of Native American ancestry.

• Pursuant to 25 U.S.C. 3001(3)(A), the ten associated funerary objects described above are reasonably believed to have been placed with or near individual human remains at the time of death or later as part of the death rite or ceremony.

• Pursuant to 25 U.S.C. 3001(2), there is a relationship of shared group identity that can be reasonably traced between the Native American human remains and associated funerary objects and the Big Valley Band of Pomo Indians of the Big Valley Rancheria, California; Elem Indian Colony of Pomo Indians of the Sulphur Bank Rancheria, California; Lower Lake Rancheria, California; Middletown Rancheria of Pomo Indians of California; and the Scotts Valley Band of Pomo Indians of California.

Additional Requestors and Disposition

Representatives of any Indian tribe that believes itself to be culturally affiliated with the human remains and associated funerary objects should contact Rebecca Carruthers, NAGPRA Coordinator, California Department of Parks and Recreation, 1416 9th Street, Room 902, telephone (916) 653-8893, before April 16, 2012. Repatriation of the human remains and associated funerary objects to the Big Valley Band of Pomo Indians of the Big Valley Rancheria, California; Elem Indian Colony of Pomo Indians of the Sulphur Bank Rancheria, California; Lower Lake Rancheria, California; Middletown Rancheria of Pomo Indians of California; and the Scotts Valley Band of Pomo Indians of California may proceed after that date if no additional claimants come forward.

The California Department of Parks and Recreation is responsible for notifying the Big Valley Band of Pomo Indians of the Big Valley Rancheria, California; Elem Indian Colony of Pomo Indians of the Sulphur Bank Rancheria, California; Lower Lake Rancheria, California; Middletown Rancheria of Pomo Indians of California; and the Scotts Valley Band of Pomo Indians of California that this notice has been published.

Dated: March 12, 2012.
Sherry Hutt,
Manager, National NAGPRA Program.

[FR Doc. 2012-6320 Filed 3-14-12; 8:45 am]

BILLING CODE 4312-50-P